DEPARTMENT OF ENERGY

Federal Energy Regulatory Commission

[Project No. 2225-013]

Public Utility District No. 1 of Pend Orielle County; Notice of Application for Surrender of License Accepted for Filing, Soliciting Comments, Motions To Intervene and Protests, and Ready for Environmental Analysis

July 6, 2010.

Take notice that the following hydroelectric application has been with the Commission and is available for public inspection.

a. Type of Application: Surrender of License.

b. Project No.: Sullivan Creek: P-2225-013.

c. Date Filed: March 29, 2010.

d. Applicant: Public Utility District No. 1 of Pend Oreille County (Pend Oreille PUD).

e. Location: The existing project is located on Sullivan Creek and Outlet Creek, tributaries to the Pend Oreille River, in northeast Washington. The project occupies lands within the Colville National Forest.

f. Filed Pursuant to: Federal Power Act 16 U.S.C. 791(a)-825(r).

g. Applicant Contact: Mark J Cauchy, Public Utility District No. 1 of Pend Oreille, County, Washington, PO Box 190, Newport, WA 99156-0190; 509 447 9331.

h. FERC Contact: David Turner (202) 502-6091 or via e-mail at david.turner@ferc.gov.

i. Cooperating agencies: Federal, state, local, and tribal agencies with jurisdiction and/or special expertise with respect to environmental issues that wish to cooperate in the preparation of the environmental document should follow the instructions for filing such requests described in item J below. Cooperating agencies should note the Commission's policy that agencies that cooperate in the preparation of the environmental document cannot also intervene. See, 94 FERC ¶ 1,076 (2001).

j. Deadline for filing comments, motions to intervene, protests, and requests for cooperating agency status is 60 days from the issuance date of this notice; reply comments are due 105 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659.

Although the Commission strongly encourages electronic filing, documents may also be paper-filed. To paper-file, mail an original and eight copies to: Kimberly D. Bose, Secretary, Federal Energy Regulatory Commission, 888 First Street, NE., Washington, DC 20426. All documents (original and eight copies) should be filed with: Kimberly D. Bose, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

k. This application has been accepted for filing and is now ready for environmental analysis.

l. The Sullivan Creek Project works include: (1) A 172-foot-long, 34-foot-high concrete and earth-filed Sullivan Lake dam; (2) the 1,240-acre Sullivan Lake; (3) a 134-foot-long, 55-foot-high concrete, gravity Mill Pond dam; and (4) the 80.5-acre Mill Pond. Other abandoned project works include: (5) a 0.8-mile-long Sullivan Creek diversion conduit, (6) a 12,500-foot-long wooden flume, (7) a 2,200-foot-long earthen canal, (8) a 1,150-foot-long, 8-foot diameter horseshoe tunnel, and (9) a 100-foot by 8-foot masonry brick powerhouse. The turbines were removed from the powerhouse in 1958 and the turbine bays filled with rock and gravel.

The Pend Orielle PUD proposes to (1) retain and operate under a Forest Service Special Use Authorization the Sullivan Lake dam and lake; (2) install a new cold-water release facility at Sullivan Lake dam; and (3) remove Mill Pond dam and restore the site and downstream stream channel and conduct short-term monitoring and maintenance in accordance with its filed Mill Pond Decommissioning Plan. No action is proposed for the remaining abandoned project works.

m. A copy of the surrender application is available for review at the Commission in the Public Reference Room or may be viewed on the Commission's website at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above. A copy of the application may be obtained by agencies directly from the applicant.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date in item j.

All filings must (1) bear in all capital letters the title “COMMENTS”, “PROTEST”, “MOTION TO INTERVENE”, or “REQUEST TO BE COOPERATING AGENCY”; as appropriate; (2) set forth in the heading the name of the applicant and the project number of the application to which the filing responds; (3) furnish the name, address, and telephone number of the person protesting or intervening; and (4) otherwise comply with the requirements of 18 CFR 385.2001 through 385.2005. All comments, motions to intervene or protests should relate to project works which are the subject of the license surrender. A copy of any protest or motion to intervene must be served upon each representative of the applicant specified in the particular application. A copy of all other filings in reference to this application must be accompanied by proof of service on all persons listed in the service list prepared by the Commission in this proceeding, in accordance with 18 CFR 385.2010.

o. A copy of the application for water quality certification was filed on April 8, 2010.

p. Procedural schedule and final amendments: The application will be processed according to the following schedule. Revisions to the schedule will be made if the Commission determines it necessary to do so:

Milestone | Target date
Filing of comments, motions to intervene, protests, and requests for cooperating agency status | September 6, 2010.
Reply Comments due | October 19, 2010.
Issue Draft EA | March 3, 2011.
Comments on Draft EA Due | April 4, 2011.
Issue Final EA | September 2, 2011.

Final amendments to the application must be filed with the Commission no later than 30 days from the issuance date of this notice.

Kimberly D. Bose,
Secretary.

[FR Doc. 2010-17099 Filed 7-13-10; 8:45 am]

BILLING CODE 6717-01-P